DEPARTMENT OF JUSTICE

Drug Enforcement Administration

[Docket No. DEA-363]

Controlled Substances: Final Adjusted Aggregate Production Quotas for 2012

AGENCY: Drug Enforcement Administration (DEA), Department of Justice.

ACTION: Notice.

SUMMARY: This notice establishes final adjusted 2012 aggregate production quotas for controlled substances in Schedules I and II of the Controlled Substances Act (CSA).

FOR FURTHER INFORMATION CONTACT: John W. Partridge, Chief, Liaison and Policy Section, Drug Enforcement Administration, 8701 Morrissette Drive, Springfield, VA 22152, Telephone: (202) 307-4654.

SUPPLEMENTARY INFORMATION:

Background

Section 306(a) of the CSA (21 U.S.C. 826) requires that the Attorney General establish aggregate production quotas for each basic class of controlled substance listed in Schedules I and II. This responsibility has been delegated to the Administrator of the DEA by 28 CFR 0.100. In accordance with 21 U.S.C. 826 and 21 CFR 1303.11, DEA published in the Federal Register on December 15, 2011, notice of the established 2012 aggregate production quotas for controlled substances in Schedules I and II (76 FR 78044). That notice stated that the Administrator would adjust, as needed, the established aggregate production quotas in 2012 as provided for in 21 CFR 1303.13. The 2012 proposed adjusted aggregate production quotas were subsequently published in the Federal Register on July 5, 2012 (77 FR 39737) in consideration of the outlined criteria. All interested persons were invited to comment on or object to the proposed adjusted aggregate production quotas on or before August 6, 2012.

Analysis for Final Adjusted 2012 Aggregate Production Quotas

Consideration has been given to the criteria outlined in the July 5, 2012, notice of proposed adjusted aggregate production quotas in accordance with 21 CFR 1303.13. In addition, nine companies, eight DEA registered manufacturers and one non-registrant, submitted timely comments regarding a total of 25 Schedule I and II controlled substances. Comments received proposed that the aggregate production quotas for 3,4-Methylenedioxy-N-Methylcathinone (methylone), alfentanil, amphetamine (for conversion), amphetamine (for sale), codeine (for conversion), codeine (for sale), desomorphine, dihydromorphine, hydrocodone (for sale), hydromorphone, levomethorphan, lisdexamfetamine, methadone intermediate, methylphenidate, morphine (for conversion), morphine (for sale), noroxymorphone (for conversion), noroxymorphone (for sale), oripavine, oxycodone (for conversion), oxycodone (for sale), oxymorphone (for conversion), oxymorphone (for sale), sufentanil, and tapentadol were insufficient to provide for the estimated medical, scientific, research, and industrial needs of the United States, for export requirements, and for the establishment and maintenance of reserve stocks.

DEA has taken into consideration the above comments along with the relevant 2011 year-end inventories, initial 2012 manufacturing quotas, 2012 export requirements, actual and projected 2012 sales, research and product development requirements, and additional applications received. Based on all of the above, the Administrator has determined that the proposed adjusted 2012 aggregate production quotas for 3,4-Methylenedioxypyrovalerone (MDPV), 3,4-Methylenedioxy-N-Methylcathinone (methylone), 4-Methyl-N-Methylcathinone (mephedrone), alfentanil, amphetamine (for conversion), desomorphine, diethyltryptamine, dihydromorphine, gamma hydroxybutyric acid, hydrocodone (for sale), hydromorphone, levomethorphan, methadone, methadone intermediate, methylphenidate, morphine (for sale), oxycodone (for conversion), oxycodone (for sale), and sufentanil required additional consideration and hereby further adjusts the 2012 aggregate production quotas for those substances. Regarding amphetamine (for sale), codeine (for conversion), codeine (for sale), morphine (for conversion), noroxymorphone (for conversion), noroxymorphone (for sale), oripavine, oxymorphone (for conversion), oxymorphone (for sale), and tapentadol, the Administrator hereby determines that the proposed adjusted 2012 aggregate production quotas for these substances as published on July 5, 2012, at 77 FR 39737 are sufficient to meet the current 2012 estimated medical, scientific, research, and industrial needs of the United States and to provide for adequate inventories. Pursuant to the above, the Administrator hereby establishes the 2012 final aggregate production quotas for Schedule I and II controlled substances, expressed in grams of anhydrous acid or base, as follows:

| Final adjusted 2012 quotas
Basic Class—Schedule I
1-[1-(2-Thienyl)cyclohexyl]piperidine | 5 g
1-[2-(4-Morpholinyl)ethyl]-3-(1-naphthoyl)indole (JWH-200) | 45 g
1-Butyl-3-(1-naphthoyl)indole (JWH-073) | 45 g
1-Methyl-4-phenyl-4-propionoxypiperidine | 2 g
1-Pentyl-3-(1-naphthoyl)indole (JWH-018) | 45 g
2,5-Dimethoxyamphetamine | 12 g
2,5-Dimethoxy-4-ethylamphetamine (DOET) | 12 g
2,5-Dimethoxy-4-n-propylthiophenethylamine | 12 g
3-Methylfentanyl | 2 g
3-Methylthiofentanyl | 2 g
3,4-Methylenedioxyamphetamine (MDA) | 30 g
3,4-Methylenedioxy-N-methylcathinone (methylone) | 30 g
3,4-Methylenedioxy-N-ethylamphetamine (MDEA) | 24 g
3,4-Methylenedioxymethamphetamine (MDMA) | 30 g
3,4-Methylenedioxypyrovalerone (MDPV) | 20 g
3,4,5-Trimethoxyamphetamine | 12 g
4-Bromo-2,5-dimethoxyamphetamine (DOB) | 12 g
4-Bromo-2,5-dimethoxyphenethylamine (2-CB) | 12 g
4-Methoxyamphetamine | 88 g
4-Methylaminorex | 12 g
4-Methyl-2,5-dimethoxyamphetamine (DOM) | 12 g
4-Methyl-N-methylcathinone (mephedrone) | 25 g
5-(1,1-Dimethylheptyl)-2-[(1R,3S)-3-hydroxycyclohexyl]-phenol | 68 g
5-(1,1-Dimethyloctyl)-2-[(1R,3S)-3-hydroxycyclohexyl]-phenol | 53 g
5-Methoxy-3,4-methylenedioxyamphetamine | 12 g
5-Methoxy-N,N-diisopropyltryptamine | 12 g
Acetyl-alpha-methylfentanyl | 2 g
Acetyldihydrocodeine | 2 g
Acetylmethadol | 2 g
Allylprodine | 2 g
Alphacetylmethadol | 2 g
Alpha-ethyltryptamine | 12 g
Alphameprodine | 2 g
Alphamethadol | 2 g
Alpha-methylfentanyl | 2 g
Alpha-methylthiofentanyl | 2 g
Alpha-methyltryptamine (AMT) | 12 g
Aminorex | 12 g
Benzylmorphine | 2 g
Betacetylmethadol | 2 g
Beta-hydroxy-3-methylfentanyl | 2 g
Beta-hydroxyfentanyl | 2 g
Betameprodine | 2 g
Betamethadol | 2 g
Betaprodine | 2 g
Bufotenine | 3 g
Cathinone | 12 g
Codeine-N-oxide | 602 g
Desomorphine | 10 g
Diethyltryptamine | 18 g
Difenoxin | 50 g
Dihydromorphine | 3,750,000 g
Dimethyltryptamine | 18 g
Gamma-hydroxybutyric acid | 37,000,000 g
Heroin | 20 g
Hydromorphinol | 54 g
Hydroxypethidine | 2 g
Ibogaine | 5 g
Lysergic acid diethylamide (LSD) | 16 g
Marihuana | 21,000 g
Mescaline | 13 g
Methaqualone | 10 g
Methcathinone | 12 g
Methyldihydromorphine | 2 g
Morphine-N-oxide | 655 g
N-Benzylpiperazine | 12 g
N,N-Dimethylamphetamine | 12 g
N-Ethylamphetamine | 12 g
N-Hydroxy-3,4-methylenedioxyamphetamine | 12 g
Noracymethadol | 2 g
Norlevorphanol | 52 g
Normethadone | 2 g
Normorphine | 18 g
Para-fluorofentanyl | 2 g
Phenomorphan | 2 g
Pholcodine | 2 g
Properidine | 2 g
Psilocybin | 2 g
Psilocyn | 2 g
Tetrahydrocannabinols | 393,000 g
Thiofentanyl | 2 g
Tilidine | 10 g
Trimeperidine | 2 g
Basic Class—Schedule II
1-Phenylcyclohexylamine | 2 g
1-Piperdinocyclohexanecarbonitrile | 27 g
4-Anilino-N-phenethyl-4-piperidine (ANPP) | 1,800,000 g
Alfentanil | 29,002 g
Alphaprodine | 2 g
Amobarbital | 40,007 g
Amphetamine (for conversion) | 13,300,000 g
Amphetamine (for sale) | 33,400,000 g
Carfentanil | 5 g
Cocaine | 216,000 g
Codeine (for conversion) | 65,000,000 g
Codeine (for sale) | 39,605,000 g
Dextropropoxyphene | 7 g
Dihydrocodeine | 400,000 g
Diphenoxylate | 900,000 g
Ecgonine | 83,000 g
Ethylmorphine | 2 g
Fentanyl | 1,428,000 g
Glutethimide | 2 g
Hydrocodone (for sale) | 79,700,000 g
Hydromorphone | 4,207,000 g
Isomethadone | 4 g
Levo-alphacetylmethadol (LAAM) | 3 g
Levomethorphan | 10 g
Levorphanol | 3,600 g
Lisdexamfetamine | 12,000,000 g
Meperidine | 5,500,000 g
Meperidine Intermediate-A | 5 g
Meperidine Intermediate-B | 9 g
Meperidine Intermediate-C | 5 g
Metazocine | 5 g
Methadone (for sale) | 23,100,000 g
Methadone Intermediate | 29,970,000 g
Methamphetamine | 3,130,000 g
[750,000 grams of levo-desoxyephedrine for use in a non-controlled, non-prescription product; 2,331,000 grams for methamphetamine mostly for conversion to a schedule III product; and 49,000 grams for methamphetamine (for sale)]
Methylphenidate | 64,600,000 g
Morphine (for conversion) | 83,000,000 g
Morphine (for sale) | 48,200,000 g
Nabilone | 20,502 g
Noroxymorphone (for conversion) | 7,200,000 g
Noroxymorphone (for sale) | 1,981,000 g
Opium (powder) | 73,000 g
Opium (tincture) | 1,000,000 g
Oripavine | 15,300,000 g
Oxycodone (for conversion) | 7,600,000 g
Oxycodone (for sale) | 105,200,000 g
Oxymorphone (for conversion) | 12,800,000 g
Oxymorphone (for sale) | 5,500,000 g
Pentobarbital | 34,000,000 g
Phenazocine | 5 g
Phencyclidine | 24 g
Phenmetrazine | 2 g
Phenylacetone | 16,000,000 g
Racemethorphan | 2 g
Remifentanil | 2,500 g
Secobarbital | 336,002 g
Sufentanil | 6,730 g
Tapentadol | 5,400,000 g
Thebaine | 116,000,000 g

Aggregate production quotas for all other Schedule I and II controlled substances included in 21 CFR 1308.11 and 1308.12 remain at zero.

Dated: August 31, 2012.
Michele M. Leonhart,
Administrator.

[FR Doc. 2012-22128 Filed 9-7-12; 8:45 am]

BILLING CODE 4410-09-P